LEGAL SERVICES CORPORATION

Sunshine Act Meeting

TIME AND DATE: The Legal Services Corporation's (LSC) Board of Directors and its seven committees will meet October 20-21, 2022. On Thursday, October 20, the first meeting will begin at 9 a.m. Central Daylight Time (CDT), with the next meeting commencing promptly upon adjournment of the immediately preceding meeting. On Friday, October 21, the first meeting will again begin at 8 a.m., CDT, with the next meeting commencing promptly upon adjournment of the immediately preceding meeting.

PLACE:

Public Notice of Virtual Meeting: LSC will conduct the October 20-21, 2022 meetings in-person and via Zoom.

Public Observation: Unless otherwise noted herein, the Board and all committee meetings will be open to public observation via Zoom. Members of the public who wish to participate remotely in the public proceedings may do so by following the directions provided below.

Directions for Open Sessions

Thursday, October 20, 2022

• To join the Zoom meeting by computer, please use this link.

• https://lsc-gov.zoom.us/j/84817635983?pwd=Wmx4Nit3NkZ3SUpZaTNLYlRMUE5PQT09&from=addon

○ Meeting ID: 848 1763 5983

○ Passcode: 102022

• To join the Zoom meeting with one tap from your mobile phone, please click dial:

○ +13017158592,,84817635983# US (Washington, DC)

○ +13126266799,,84817635983# US (Chicago)

• To join the Zoom meeting by telephone, please dial one of the following numbers:

○ +1 301 715 8592 US (Washington, DC)

○ +1 312 626 6799 US (Chicago)

○ +1 646 876 9923 US (New York)

○ +1 346 248 7799 US (Houston)

○ +1 408 638 0968 US (San Jose)

○ +1 253 215 8782 US (Tacoma)

○ Meeting ID: 848 1763 5983

○ Passcode: 102022

○ If calling from outside the U.S., find your local number here: https://lsc-gov.zoom.us/u/acCVpRj1FD

Friday, October 21, 2022

• To join the Zoom meeting by computer, please use this link.

○ https://lsc-gov.zoom.us/j/89663269110?pwd=N2poRVFTMUN2dVRrTUdNYzZlV1FNdz09&from=addon

○ Meeting ID: 896 6326 9110

○ Passcode: 102122

• To join the Zoom meeting with one tap from your mobile phone, please click dial:

○ +13017158592,,89663269110# US (Washington, DC)

○ +16468769923,,89663269110# US (New York)

• To join the Zoom meeting by telephone, please dial one of the following numbers:

○ +1 301 715 8592 US (Washington, DC)

○ +1 646 876 9923 US (New York)

○ +1 312 626 6799 US (Chicago)

○ +1 408 638 0968 US (San Jose)

○ +1 253 215 8782 US (Tacoma)

○ +1 346 248 7799 US (Houston)

○ Meeting ID: 896 6326 9110

○ Passcode: 102122

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Board of Directors, the meeting may be closed to the public to meeting to discuss follow-up work by the Office of Compliance and Enforcement relating to open Office of Inspector General investigations.

Institutional Advancement Committee—Open, except that, upon a vote of the Board of Directors, the meeting may be closed to the public for a briefing on development activities, an update on LSC's 50th anniversary fundraising activities, and to discuss prospective members of the Leaders Council and Emerging Leaders Council.

Board of Directors—Open, except that, upon a vote of the Board of Directors, a portion of the meeting may be closed to the public for briefings by management and LSC's Inspector General and for the Board to consider and act on the General Counsel's report on potential and pending litigation involving LSC as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b (a) (2) and (b). See also 45 CFR 1622.2 & 1622.3.

A verbatim written transcript will be made of the closed session of the Audit, Board, and Institutional Advancement Committee meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule
| Start time (all CDT)
Thursday, October 20, 2022:
1. Meeting of the Communications Subcommittee of the Institutional Committee | 9 a.m. CDT.
2. Finance Committee Meeting
3. Audit Committee Meeting
4. Delivery of Legal Services Committee Meeting
Friday, October 21, 2022:
1. Institutional Advancement Committee | 8 a.m. CDT.
2. Open Board Meeting
3. Closed Board Meeting

Thursday, October 20, 2022

Meeting of Communications Subcommittee of the Institutional Advancement Committee

Open Session

1. Approval of Agenda

2. Approval of Minutes of the Subcommittee's Open Session Meeting on July 14, 2022

3. Communications and Social Media Update

• Carl Rauscher, Director of Communications and Media Relations, Legal Services Corporation

4. Public Comment

5. Consider and Act on Other Business

6. Consider and Act on Motion to Adjourn the Meeting

Finance Committee Meeting

Open Session

1. Approval of Meeting Agenda

2. Approval of Minutes of the Committee's Open Session Meetings on June 13, June 30, July 5, and July 14, 2022

3. Approval of Minutes of the Committee's Closed Session Meeting on July 14, 2022

4. Presentation of LSC's Financial Report for Fiscal Year 2022, Ending September 30, 2022

• Debbie Moore, Chief Financial Officer and Treasurer

5. Report on Fiscal Year 2023 Appropriation and Supplemental Requests

• Carol Bergman, Vice President for Government Relations and Public Affairs

6. Report on Fiscal Year 2023 Management and Grants Oversight Budget

• Ron Flagg, President

• Debbie Moore, Chief Financial Officer and Treasurer

7. Report on Fiscal Year 2024 Budget Request

• Carol Bergman, Vice President for Government Relations and Public Affairs

8. Briefing on Capitol Hill Visits During the Executive Directors Conference

• Carol Bergman, Vice President for Government Relations and Public Affairs

9. Public Comment

10. Consider and Act on Other Business

11. Consider and Act on Motion to Adjourn the Meeting

Audit Committee Meeting

Open Session

1. Approval of Agenda

2. Approval of Minutes of the Committee's Open Session Meeting on July 13, 2022

3. Briefing by the Office of Inspector General

• Roxanne Caruso, Acting Inspector General & Assistant Inspector General for Audit

4. Review LSC's Efforts, Including Training and Education, to Help Ensure that LSC Employees and Grantees Act Ethically and Safeguard LSC Funds

• Will Gunn, Vice President for Legal Affairs

• Lynn Jennings, Vice President for Grants Management

• Debbie Moore, Treasurer & Chief Financial Officer

• Stefanie Davis, Senior Associate General Counsel for Regulations and Ethics Officer

• Roxanne Caruso, Acting Inspector General & Assistant Inspector General for Audit

• Daniel O'Rourke, Assistant Inspector General for Investigations

5. Management Update Regarding Risk Management

• Will Gunn, Vice President for Legal Affairs

6. Briefing About Follow-Up by the Office of Compliance and Enforcement on Referrals by the Office of Inspector General Regarding Audit Reports and Annual Financial Statement Audits of Grantees

• Lora Rath, Director, Office of Compliance and Enforcement

• Roxanne Caruso, Acting Inspector General & Assistant Inspector General for Audit

7. Public Comment

8. Consider and Act on Other Business

9. Consider and Act on Motion to Adjourn the Open Session Meeting and Proceed to a Closed Session

Closed Session

1. Approval of Minutes of the Committee's Closed Session Meeting on July 13, 2022

2. Briefing by Office Compliance and Enforcement on Active Enforcement Matter(s) and Follow-Up on Open Investigation Referrals from the Office of Inspector General

• Lora Rath, Director, Office of Compliance and Enforcement

3. Consider and Act on Motion to Adjourn the Meeting

Delivery of Legal Services Committee Meeting

Open Session

1. Approval of Agenda

2. Approval of Minutes of the Committee's Open Session Meeting on July 13, 2022

3. LSC Performance Criteria Revisions Update

• Lynn Jennings, Vice President for Grants Management

• Joyce McGee, Director, Office of Program Performance

• Evora Thomas, Consultant

4. Panel Discussion: Disaster Legal Aid

• Leslie Powell-Beaudreaux, Executive Director, Legal Services of North Florida

• Maria Thomas Jones, Executive Director, Legal Aid of Northwest Texas

• Laura Tuggle, Executive Director, Southeast Louisiana Legal Services

Moderator: Joyce McGee, Director, Office of Program Performance

5. Public Comment

6. Consider and Act on Other Business

7. Consider and Act on a Motion to Adjourn the Meeting

Friday, October 21, 2022

Institutional Advancement Committee Meeting

Open Session

1. Approval of Agenda

2. Approval of Minutes of the Institutional Advancement Committee's Open Session Meeting on July 13, 2022

3. Update on Leaders Council and Emerging Leaders Council

• John G. Levi, Chairman of the Board

4. Development Report

• Nadia Elguindy, Director of Institutional Advancement

5. Update on Privately Funded Initiatives

• Veterans Task Force Implementation

○ Stefanie Davis, Senior Assistant General Counsel and Ethics Officer

• Executive Director Conference and Midwest Capstone Disaster Conference

○ Lynn Jennings, Vice President for Grants Management

• Rural Justice Task Force

○ Jessica Wechter, Special Assistant to the President

6. Public Comment

7. Consider and Act on Other Business

8. Consider and Act on Motion to Adjourn the Open Session Meeting and Proceed to a Closed Session

Closed Session

1. Approval of Minutes of the Institutional Advancement Committee's Closed Session Meeting on July 13, 2022

2. Development Activities Report

• Nadia Elguindy, Director of Institutional Advancement

3. Update on LSC's 50th Anniversary Fundraising Campaign

• Nadia Elguindy, Director of Institutional Advancement

• Leo Latz, Latz & Company

4. Consider and Act on Motion to Approve Leaders Council and Emerging Leaders Council Invitees

5. Consider and Act on Other Business

6. Consider and Act on Motion to Adjourn the Meeting

Board of Directors

Open Session

1. Pledge of Allegiance

2. Approval of Agenda

3. Approval of Minutes of the Board's Open Session Meeting on July 14, 2022

4. Chairman's Report

5. Members' Reports

6. President's Report

7. Inspector General's Report

8. Consider and Act on the Report of the Governance and Performance Review Committee, following its September 23, 2022, Videoconference Meeting

9. Consider and Act on the Report of the Operations and Regulations Committee, following its October 4, 2022, Videoconference Meeting

10. Consider and Act on the Report of the Finance Committee

11. Consider and Act on the Report of the Audit Committee

12. Consider and Act on the Report of the Delivery of Legal Services Committee

13. Consider and Act on the Report of the Institutional Advancement Committee

14. Public Comment

15. Consider and Act on Other Business

16. Consider and Act on Motion to Adjourn the Open Session Meeting and Proceed to a Closed Session

Closed Session

1. Approval of Minutes of the Board's Closed Session Meeting on July 14, 2022

2. Management Briefing

3. Inspector General Briefing

4. Consider and Act on General Counsel's Report on Potential and Pending Litigation Involving Legal Services Corporation

5. Consider and Act on List of Prospective Leaders Council and Emerging Council Invitees

6. Consider and Act on Motion to Adjourn the Meeting

CONTACT PERSON FOR MORE INFORMATION: Kaitlin Brown, Executive and Board Project Coordinator, at (202) 295-1555. Questions may also be sent by electronic mail to brownk@lsc.gov.

Non-Confidential Meeting Materials: Non-confidential meeting materials will be made available in electronic format at least 24 hours in advance of the meeting on the LSC website, at https://www.lsc.gov/about-lsc/board-meeting-materials.

Dated: October 11, 2022.
Kaitlin D. Brown,
Executive and Board Project Coordinator, Legal Services Corporation.

[FR Doc. 2022-22452 Filed 10-12-22; 11:15 am]

BILLING CODE 7050-01-P